DEPARTMENT OF THE INTERIOR

Fish and Wildlife Service

50 CFR Part 17

RIN 1018-AG32

Endangered and Threatened Wildlife and Plants; Re-opening of Comment Period and Notice of Availability of the Draft Economic Analysis for Proposed Critical Habitat for the California Red-Legged Frog

AGENCY: Fish and Wildlife Service, Interior.

ACTION: Proposed rule; re-opening of comment period and notice of availability of draft economic analysis.

SUMMARY: We, the U.S. Fish and Wildlife Service (Service), announce the availability of the draft economic analysis for the proposed designation of critical habitat for the California red-legged frog (Rana aurora draytonii). We are also providing notice of the re-opening of the comment period for the proposal to designate critical habitat for the California red-legged frog in order to allow all interested parties to comment simultaneously on the proposed rule and the associated draft economic analysis. Comments previously submitted need not be resubmitted as they will be incorporated into the public record as part of this re-opened comment period, and will be fully considered in the final rule.

DATES: We will accept public comments until January 22, 2001. In addition, we are planning on holding two public information meetings during this time. Refer to the Public Information Meeting section for dates, times, and locations of these meetings.

ADDRESSES: Comment Submission: If you wish to comment, you may submit your comments and materials concerning this proposal by any one of several methods:

1. You may submit written comments and information to the Field Supervisor, Sacramento Fish and Wildlife Office, U.S. Fish and Wildlife Service, 2800 Cottage Way, Suite W-2605, Sacramento, California 95825.

2. You may send comments by electronic mail (e-mail) to: fw1crfch@fws.gov. See the Public Comments Solicited section below for file format and other information about electronic filing.

3. You may hand-deliver comments to our Sacramento Fish and Wildlife Office at the address given above.

Comments and materials received, as well as supporting documentation used in preparation of the proposal to designate critical habitat, will be available for inspection, by appointment, during normal business hours at the address under (1) above. Copies of the draft economic analysis are available on the Internet at “www.r1.fws.gov” or by writing to the Field Supervisor at the address under (1) above.

FOR FURTHER INFORMATION CONTACT: For general information, and for information about Alameda, Butte, Calaveras, Contra Costa, El Dorado, Fresno, Kern, Marin, Mariposa, Merced, Napa, Plumas, San Joaquin, San Mateo, Santa Clara, Sierra, Solano, Sonoma, Stanislaus, Tehama, Tuolumne, and Yuba counties, contact Curt McCasland, Stephanie Brady or Patricia Foulk, at the above address (telephone 916/414-6600; facsimile 916/414-6710).

For information about Monterey, Los Angeles, San Benito, San Luis Obispo, Santa Barbara, Santa Cruz, and Ventura counties, contact Diane Noda, Ventura Fish and Wildlife Office, U.S. Fish and Wildlife Service, 2394 Portola Road, Suite B, Ventura, California 93003 (telephone 805/644-1766; facsimile 805/644-3958).

For information about areas in the San Gabriel Mountains of Los Angeles County or Riverside and San Diego counties, contact Ken Berg, Carlsbad Fish and Wildlife Office, U.S. Fish and Wildlife Service, 2730 Loker Avenue West, Carlsbad, California 92008 (telephone 760/431-9440; facsimile 760/431-9624).

SUPPLEMENTARY INFORMATION:

Background

The California red-legged frog (Rana aurora draytonii) is the largest native frog in the western United States. It is endemic to California and Baja California, Mexico. It is typically found from sea level to elevations of approximately 1,500 meters (5,000 feet). The California red-legged frog is one of two subspecies of the red-legged frog (R. aurora). For a detailed description of these two subspecies, see the Draft Recovery Plan for the California Red-Legged Frog (Service 2000) and references within that plan.

Pursuant to the Endangered Species Act of 1973, as amended (Act), the California red-legged frog was listed as a threatened species on May 31, 1996 (61 FR 25813). Habitat loss and alteration, over-exploitation, and introduction of exotic predators were significant factors in the species' decline in the early- to mid-1900s. Habitat fragmentation, and continued colonization of existing habitat by nonnative species, may represent the most significant current threats to California red-legged frogs. We did not propose critical habitat at the time of the final rule to list the species because we believed that critical habitat designation was not prudent.

On March 24, 1999, The Earthjustice Legal Defense Fund, on behalf of the Jumping Frog Research Institute, the Southwest Center for Biological Diversity, and the Center for Sierra Nevada Conservation, filed a lawsuit in the Northern District of California against the U.S. Fish and Wildlife Service and Bruce Babbitt, Secretary of the Department of the Interior (Secretary), for failure to designate critical habitat for the California red-legged frog (Jumping Frog Research Institute et al. v. Babbitt).

On December 15, 1999, U.S. District Judge William Alsup ordered us to make a prudency determination by August 31, 2000, and issue a final rule by December 29, 2001. On January 18, 2000, Judge Alsup clarified an error in the December 15, 1999, order stating that the Service shall issue a final rule by March 1, 2001.

On September 11, 2000, we published a proposed rule to designate critical habitat for the California red-legged frog in the Federal Register (65 FR 54892). The original comment period closed on October 11, 2000. The comment period for this proposed rule was re-opened and closed on November 20, 2000.

Approximately 2,175,000 hectares (5,373,650 acres) of land fall within the boundaries of the proposed critical habitat designation. Specifically, the aquatic and upland areas where suitable breeding and nonbreeding habitat is interspersed throughout the landscape, and is interconnected by unfragmented dispersal habitat, are the areas proposed as critical habitat. Proposed critical habitat is located in Alameda, Butte, Calaveras, Contra Costa, El Dorado, Fresno, Kern, Los Angeles, Marin, Mariposa, Merced, Monterey, Napa, Plumas, Riverside, San Benito, San Diego, San Joaquin, San Luis Obispo, San Mateo, Santa Barbara, Santa Clara, Santa Cruz, Sierra, Solano, Sonoma, Stanislaus, Tehama, Tuolumne, Ventura, and Yuba counties, California.

Critical habitat receives protection from destruction or adverse modification through required consultation under section 7 of the Endangered Species Act of 1973, as amended (Act) (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. Based upon the previously published proposal to designate critical habitat for the California red-legged frog, and comments received during the previous comment periods, we have prepared a draft economic analysis of the proposed critical habitat designation. The draft economic analysis is available at the above Internet and mailing address (see ADDRESSES section).

Public Comments Solicited

We will accept written comments during this re-opened comment period, and comments should be submitted to the Sacramento Fish and Wildlife Office in the ADDRESSES section.

If you submit comments by e-mail, please submit them as an ASCII file and avoid the use of special characters and any form of encryption. Please also include “Attn: [RIN number]” and your name and return address in your e-mail message. If you do not receive a confirmation from the system that we have received your e-mail message, contact us directly by calling our Sacramento Fish and Wildlife Office at telephone number 919/414-6600.

Public Information Meetings

Two public information meetings have been scheduled. The first meeting will be held on January 3, 2001, from 1:00 p.m. to 4:00 p.m. at the San Luis Obispo Embassy Suites, 333 Madonna Road, San Luis Obispo, California. The second meeting will be held on January 5, 2001, from 1:00 p.m. to 4:00 p.m. at the Best Western Monarch Hotel, 6680 Regional Street, Dublin, California.

Author(s)

The primary authors of this notice is Stephanie Brady (see ADDRESSES section), and Barbara Behan, U.S. Fish and Wildlife Service, Regional Office, 911 N.E. 11th Avenue, Portland, Oregon 97232.

Authority

The authority for this action is the Endangered Species Act of 1973 (16 U.S.C. 1531 et seq.).

Dated: December 13, 2000.
Rowan W. Gould,
Acting Regional Director, Region 1, Fish and Wildlife Service.

[FR Doc. 00-32372 Filed 12-20-00; 8:45 am]

BILLING CODE 4310-55-P